DEPARTMENT OF AGRICULTURE

Forest Service

California Coast Provincial Advisory Committee

AGENCY: Forest Service, USDA.

ACTION: Notice of meeting.

SUMMARY: The California Coast Provincial Advisory Committee (PAC) will meet on September 15 and 16, 2004, in Ukiah, California. The purpose of the meeting is to conduct annual implementation monitoring of two projects completed in previous years, relating to standards and guidelines in the Northwest Forest Plan (NWFP).

DATES: The meeting will be held from 8 a.m. to 5 p.m., September 15 and 16, 2004.

ADDRESSES: The meeting will be held in the field both days, beginning at the Bureau of Land Management Office Conference Room, 2550 North State St., Ukiah, CA.

FOR FURTHER INFORMATION CONTACT: Phebe Brown, Committee Coordinator, USDA, Mendocino National Forest, 825 N. Humboldt Avenue, Willows, CA 95988, (530) 934-1137; e-mail pybrown@fs.fed.us.

SUPPLEMENTARY INFORMATION: The two projects to be monitored are: (1) County Line hazardous fuel removal, Bureau of Land Management project; and (2) Elk Mountain fuelbreak, Upper Lake Ranger District of the Mendocino National Forest. The meeting is open to the public.

Dated: August 13, 2004.
James D. Fenwood,
Designated Federal Official.

[FR Doc. 04-19033 Filed 8-18-04; 8:45 am]

BILLING CODE 3410-11-M